DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 10, 2021.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on November 4, 2021.
Donald P. Burger,
Chief, General Approvals and Permits Branch.

Special Permits Data—Granted
Application No. | Applicant | Regulation(s) affected | Nature of the special permits thereof
10232-M | Illinois Tool Works Inc | 173.304(d), 173.167, 173.306(i) | To modify the special permit to remove an obsolete proper shipping name from the special permit.
11947-M | Patts Fabrication, Inc | 173.241, 173.242, 173.243, 177.834(h) | To modify the special permit to authorize additional hazmat to be transported.
16231-M | Thales Alenia Space | 172.101(j), 173.301(f), 173.302a(a)(1), 173.304a(a)(2) | To modify the special permit to authorize additional 2.3 hazmat.
20336-M | Geotek Coring Inc | 173.3(d) | To modify the special permit to authorize up to 36 salvage cylinders in an ISO container.
21134-N | GATX Corporation | 179.100-4, 179.200-4 | To authorize the use of certain jacketed DOT specification tank cars that have been repaired pursuant to Applicant's Jacket Patch Procedure.
21163-N | United Initiators, Inc | 178.345-10(b)(1) | To authorize the transportation in commerce of organic peroxides in cargo tank motor vehicles that utilize alternative pressure relief devices, specifically 4-12″ diameter rupture disks (See Drawing) in lieu of the prescribed reclosing PRD.
21178-N | Meggitt Safety Systems, Inc | 173.302(a)(1) | To authorize the manufacture, mark, sale, and use of non-DOT specification small, high pressure cylinders of welded construction similar to a DOT 3HT.
21195-M | Panasonic Energy Corporation of America | 173.185(c) | To modify the special permit to authorize additional packaging.
21203-N | Daklapack US Inc | 173.199(a) | To authorize the transportation in commerce of category B biological samples without rigid outer packaging.
21212-N | The Boeing Company | 178.955 | To authorize the transportation in commerce of environmentally hazardous substances contained in non-DOT specification bulk packagings by motor vehicle.
21213-M | Space Exploration Technologies Corp | 172.300, 172.400, 173.302(a) | To modify the special permit to increase the number of cylinders and add additional routes.
21237-N | Mauser USA, LLC | 178.503(a)(3)(ii) | To authorize the use of certain 1H1 plastic drums with markings that do not include the letter identifying the performance standard.
21240-M | Volkswagen Group of America Chattanooga Operations, LLC | 172.101(j) | To modify the special permit to authorize an additional lithium ion battery.
21242-N | Myers Container, LLC | 178.503(a)(10) | To authorize the use of certain UN Standard steel drums exceeding 100 L in which the marking required by 49 CFR 178.503(a)(10) on the bottom of the drum has a different year of manufacture than the top head or side of the drum.
21258-N | Veolia Es Technical Solutions, LLC | 173.224(c), 173.21(f), 173.124(a)(2)(iii)(C), 173.124(a)(2)(iii)(D) | To authorize the one-time one-way transportation of self-reactive waste for disposal.
21273-N | Spaceflight, Inc | 173.185(e)(3) | To authorize the transportation in commerce of low production and prototype lithium batteries contained in equipment by motor vehicle.
21278-N | ConocoPhillips Alaska, Inc | 172.101(j), 173.318 | To authorize the transportation in commerce of refrigerated liquid nitrogen aboard cargo-only aircraft within Alaska.
21284-N | General Motors LLC | 173.185(a)(1) | To authorize the transportation in commerce via motor vehicle of production batteries that have not been proven to be of a type that meets the testing requirements of the UN Manual of Test and Criteria Section 38.3.
21291-N | Praxair Distribution, Inc | 173.24(c), 173.25 | To authorize the transportation in commerce of a corrosive solid, toxic, n.o.s. in a non-DOT specification package (fluorine generator) to Korea for repair.
21295-N | Kavok Eir, Tov | 172.101(j), 172.204(c)(3), 172.204(c)(3), 173.27, 175.30(a)(1) | To authorize the transportation in commerce of forbidden explosives by cargo aircraft.

Special Permits Data—Denied
Application No. | Applicant | Regulation(s) affected | Nature of the special permits thereof

Special Permits Data—Withdrawn
Application No. | Applicant | Regulation(s) affected | Nature of the special permits thereof

[FR Doc. 2021-24561 Filed 11-9-21; 8:45 am]

BILLING CODE P